DEPARTMENT OF HEALTH AND HUMAN SERVICES

Meeting of the Advisory Committee on Blood Safety and Availability

AGENCY: Department of Health and Human Services, Office of the Secretary.

ACTION: Notice.

SUMMARY: As stipulated by the Federal Advisory Committee Act, the U.S. Department of Health and Human Services is hereby giving notice that the Advisory Committee on Blood Safety and Availability (ACBSA) will hold a meeting. The meeting will be open to the public.

DATES: The meeting will take place Thursday, January 5, 2006 and Friday, January 6, 2006 from 9 a.m. to 5 p.m.

ADDRESSES: Marriott Crystal Gateway, 1700 Jeff Davis Highway, Arlington, VA 22202.

FOR FURTHER INFORMATION CONTACT: Jerry A. Holmberg, PhD, Executive Secretary, Advisory Committee on Blood Safety and Availability, Office of Public Health and Science, Department of Health and Human Services, 1101 Wootton Parkway, Room 250, Rockville, MD 20852, (240) 453-8809, FAX (240) 453-8456, e-mail jholmberg@osophs.dhhs.gov.

SUPPLEMENTARY INFORMATION: The ACBSA will meet to review progress and solicit additional input regarding numerous recommendations made during the past year. Additionally, the Committee will discuss strategies for vigilant detection and management of emerging or re-emerging infectious and non-infectious events of transfusion since it is a necessary first step toward the goal of reducing the risk of transfusion-transmitted diseases as well as disease transmission through other vital products such as bone marrow, progenitor cells, tissues, and organs. The Committee will also be asked to review current literature and hear subject matter experts on the H5NI avian flu virus and provide recommendations for preparations which should be considered for the nation's blood supply if a pandemic influenza or similar pandemic event occurs. Recommendations on the impact of a pandemic on the availability of blood, organs, and other tissue will be requested.

Public comment will be solicited at the meeting and will be limited to five minutes per speaker. Anyone planning to comment is encouraged to contact the Executive Secretary at his/her earliest convenience. Those who wish to have printed material distributed to Advisory Committee members should submit thirty (30) copies to the Executive Secretary prior to close of business January 3, 2006. Likewise, those who wish to utilize electronic data projection to the Committee must submit their materials to the Executive Secretary prior to close of business January 3, 2006.

Jerry A. Holmberg,
Executive Secretary, Advisory Committee on Blood Safety and Availability.

[FR Doc. E5-7084 Filed 12-7-05; 8:45 am]

BILLING CODE 4150-41-P